DEPARTMENT OF HEALTH AND HUMAN SERVICES

Administration for Children and Families

Proposed Information Collection Activity; Current Population Survey-Child Support Supplement (OMB No.: 0970-0416)

AGENCY: Office of Child Support Enforcement, Administration for Children and Families, HHS.

ACTION: Request for public comment.

SUMMARY: The Office of Child Support Enforcement, Administration for Children and Families (ACF), is requesting that the federal Office of Management and Budget (OMB) approve a revision to an approved information collection: Current Population Survey-Child Support Supplement. The current OMB approval expires on August 31, 2022.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION: Description: The Current Population Survey-Child Support Supplement collects detailed information about child support agreements and awards, including both required payments and amounts received, as well as data about the socioeconomic characteristics of custodial parents and their families. Data collected pertaining to child support, and the subsequent analysis of survey data, will assist legislators and policymakers in determining the efficacy of various child support legislation.

Minor changes are being proposed for the 2023 information collection. Changes include deleting extraneous questions, updating language, and adding a few questions about customer satisfaction with the child support program. We do not anticipate that these changes will affect the overall burden to respond to this information collection.

Respondents: Individuals and households.

Annual Burden Estimates
Instrument | Total number of respondents | Total number of responses per respondent | Average burden hours per response | Total burden hours
Current Population Survey-Child Support Supplement | 34,500 | 1 | 0.03 | 1,035

Estimated Total Annual Burden Hours: 1,035.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 13 U.S.C. 182.

Mary B. Jones,
ACF/OPRE Certifying Officer.

[FR Doc. 2022-02377 Filed 2-3-22; 8:45 am]

BILLING CODE 4184-41-P